DEPARTMENT OF TRANSPORTATION

Federal Aviation Administration

Notice of Submission Deadline for Schedule Information for O'Hare International Airport, San Francisco International Airport, John F. Kennedy International Airport, and Newark Liberty International Airport for the Summer 2014 Scheduling Season

AGENCY: Federal Aviation Administration (FAA), Department of Transportation.

ACTION: Notice of submission deadline.

SUMMARY: Under this notice, the FAA announces the submission deadline of October 10, 2013, for summer 2014 flight schedules at Chicago's O'Hare International Airport (ORD), San Francisco International Airport (SFO), New York's John F. Kennedy International Airport (JFK), and Newark Liberty International Airport (EWR) in accordance with the International Air Transport Association (IATA) Worldwide Slot Guidelines. The deadline coincides with the schedule submission deadline for the IATA Slots Conference for the summer 2014 scheduling season.

SUPPLEMENTARY INFORMATION: The FAA has designated ORD as an IATA Level 2 airport, SFO as a Level 2 airport, JFK as a Level 3 airport, and EWR as a Level 3 airport. Scheduled operations at JFK and EWR are currently limited by FAA Orders until a final Slot Management and Transparency Rule for LaGuardia Airport, John F. Kennedy International Airport, and Newark Liberty International Airport (RIN 2120-AJ89) becomes effective but not later than October 24, 2014.¹

¹ Operating Limitations at John F. Kennedy International Airport, 73 FR 3510 (Jan. 18, 2008) as amended 78 FR 28276 (May 14, 2013); Operating Limitations at Newark Liberty International Airport, 73 FR 29550 (May 21, 2008) as amended 78 FR 28280 (May 14, 2013).

The FAA is primarily concerned about planned passenger and cargo operations during peak hours, but carriers may submit schedule plans for the entire day. At ORD, the peak hours are 0700 to 2100 Central Time (1200 to 0200 UTC), at SFO from 0600 to 2300 Pacific Time (1300 to 0600 UTC), and at EWR and JFK from 0600 to 2300 Eastern Time (1000 to 0300 UTC). Carriers should submit schedule information in sufficient detail including, at minimum, the operating carrier, flight number, scheduled time of operation, frequency, and effective dates. IATA standard schedule information format and data elements (Standard Schedules Information Manual or SSIM) may be used.

The U.S. summer scheduling season for these airports is from March 30, 2014, through October 25, 2014, in recognition of the IATA northern summer period. The FAA understands there may be differences in slot times due to different U.S. daylight saving time dates and will accommodate these differences to the extent possible.

At EWR, there will be runway construction in summer 2014 that will impact airport operations and runway capacity. Runway 4L/22R will close from April 1 through June 1, 2014, and from September 20 through September 30, 2014. Runway 11/29 will close June 1 through 15, 2014, for construction at the intersection of runway 4L/22R. Runway 4L/22R will be open during that period with reduced length. Nighttime and weekend closures of Runway 4L/22R will occur until late 2014. Modeling suggests that delay impacts may be significant at the typical demand levels, especially when available runways or adverse weather conditions limit capacity. The Port Authority of New York and New Jersey, the FAA, and stakeholders have been meeting to determine ways to improve operations and mitigate delays to the extent possible. The FAA has issued a limited waiver of the minimum slot usage requirement to encourage carriers to temporarily reduce operations without losing historical precedence for slots. The FAA will work with carriers to potentially retime flights to less congested periods. Slots for new flights will be limited to off-peak times to avoid adding to congestion during the construction.

At SFO, there will be runway construction in summer 2014. Runways 1R/19L and 1L/19R will close from May 17 through September 28, 2014. FAA modeling suggests modest delay increases and operational impacts based on existing schedules and projected airport runway capacity during the construction. The airport operator, FAA, and stakeholders have been meeting regularly to identify ways to improve efficiency, develop operational plans, and mitigate delays to the extent possible. Currently, the peak demand period at SFO is approximately 0900 to 1400 Pacific Time. In order to reduce potential congestion and delays, carriers are encouraged to consider other hours for new summer 2014 flights and limit plans for new flights. Carriers may also consider whether it is possible to reschedule some flights to less congested hours, use larger aircraft or frequency adjustments in some markets, and temporarily reduce schedules. The FAA will work with carriers through the Level 2 schedule facilitation process to identify ways to reduce congestion.

DATES: Schedules must be submitted no later than October 10, 2013.

ADDRESSES: Schedules may be submitted by mail to the Slot Administration Office, AGC-200, Office of the Chief Counsel, 800 Independence Avenue SW., Washington, DC 20591; facsimile: 202-267-7277; or by email to: 7-AWA-slotadmin@faa.gov.

FOR FURTHER INFORMATION CONTACT: Robert Hawks, Office of the Chief Counsel, Federal Aviation Administration, 800 Independence Avenue SW., Washington, DC 20591; telephone number: 202-267-7143; fax number: 202-267-7971; email: rob.hawks@faa.gov.

Issued in Washington, DC, on September 13, 2013.
Mark W. Bury,
Acting Assistant Chief Counsel for International Law, Legislation, and Regulations.

[FR Doc. 2013-22810 Filed 9-18-13; 8:45 am]

BILLING CODE 4910-13-P